DEPARTMENT OF THE INTERIOR

National Park Service

[NPS-WASO-NAGPRA-10823; 2200-1100-665]

Notice of Inventory Completion: Thomas Burke Memorial Washington State Museum, University of Washington, Seattle, WA

AGENCY: National Park Service, Interior.

ACTION: Notice.

SUMMARY: The Thomas Burke Memorial Washington State Museum (Burke Museum) has completed an inventory of human remains and associated funerary objects, in consultation with the appropriate Indian tribes, and has determined that there is no cultural affiliation between the remains and any present-day Indian tribe. Representatives of any Indian tribe that believes itself to be culturally affiliated with the human remains may contact the Burke Museum. Disposition of the human remains and the associated funerary object to the Indian tribes stated below may occur if no additional requestors come forward.

DATES: Representatives of any Indian tribe that believes it has a cultural affiliation with the human remains should contact the Burke Museum at the address below by September 4, 2012.

ADDRESSES: Peter Lape, Burke Museum, University of Washington, Box 353010, Seattle, WA 98195-3010, telephone (206) 685-3849.

SUPPLEMENTARY INFORMATION: Notice is hereby given in accordance with the Native American Graves Protection and Repatriation Act (NAGPRA), 25 U.S.C. 3003, of the completion of an inventory of human remains and associated funerary object in the possession of the Burke Museum. The human remains and associated funerary object were removed from an unknown location, most likely in the state of Washington.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Burke Museum professional staff in consultation with representatives of the Coeur D'Alene Tribe of the Coeur D'Alene Reservation, Idaho; Confederated Tribes and Bands of the Yakama Nation, Washington; Confederated Tribes of the Colville Reservation, Washington; Confederated Tribes of the Umatilla Reservation, Oregon; Confederated Tribes of the Warm Springs Reservation of Oregon; Cowlitz Indian Tribe, Washington; Jamestown S'Klallam Tribe of Washington; Kalispel Indian Community of the Kalispel Reservation, Washington; Lower Elwha Tribal Community of the Lower Elwha Reservation, Washington; Lummi Tribe of the Lummi Reservation, Washington; Makah Indian Tribe of the Makah Indian Reservation, Washington; Muckleshoot Indian Tribe of the Muckleshoot Reservation, Washington; Nez Perce Tribe, Idaho (previously listed as Nez Perce Tribe of Idaho); Nooksack Indian Tribe of Washington; Port Gamble Indian Community of the Port Gamble Reservation, Washington; Puyallup Tribe of the Puyallup Reservation, Washington; Samish Indian Tribe, Washington; Skokomish Indian Tribe of the Skokomish Reservation, Washington; Snoqualmie Tribe, Washington; Spokane Tribe of the Spokane Reservation, Washington; Squaxin Island Tribe of the Squaxin Island Reservation, Washington; Stillaguamish Tribe of Washington; Suquamish Indian Tribe of the Port Madison Reservation, Washington; Swinomish Indians of the Swinomish Reservation, Washington; and the Wanapum Band of Priest Rapids, a non-Federally recognized Indian group. The following tribes with aboriginal territory in the state of Washington were also invited to participate but were not involved in consultations: the Confederated Tribes of the Chehalis Reservation, Washington; Hoh Indian Tribe of the Hoh Indian Reservation, Washington; Nisqually Indian Tribe of the Nisqually Reservation, Washington; Quileute Tribe of the Quileute Reservation, Washington; Quinault Tribe of the Quinault Reservation, Washington; Sauk-Suiattle Indian Tribe of Washington; Shoalwater Bay Tribe of the Shoalwater Bay Indian Reservation, Washington; Tulalip Tribes of the Tulalip Reservation, Washington; and the Upper Skagit Indian Tribe of Washington.

History and Description of the Remains

At unknown dates, human remains representing, at minimum, 27 individuals were removed from unknown sites throughout the state of Washington. There is limited or no provenience information for the human remains. Based on the fact that they were disassociated from any acquisition documentation, they were assigned “found in collection” accession numbers in 1973 and 1995. These human remains were crosschecked against the documentation for human remains known to have been missing, but did not match documentation for any specific collection. These human remains and the associated funerary object are most likely to have been removed from sites within the state of Washington. No known individuals were identified. The one associated funerary object is a composite artifact bag containing non-human mammal bones, shells, a rock, and two twigs.

Determinations Made by the Burke Museum

Officials of the Burke Museum have determined that:

• Based on cranial morphology, dental traits, taphonomy, and museum accession documentation, the human remains are Native American.

• Pursuant to 25 U.S.C. 3001(2), a relationship of shared group identity cannot be reasonably traced between the Native American human remains and any present-day Indian tribe.

• According to final judgments of the Indian Claims Commission, the land from which the Native American human remains and the associated funerary object were removed is the aboriginal land of the Coeur D'Alene Tribe of the Coeur D'Alene Reservation, Idaho; Confederated Tribes and Bands of the Yakama Nation, Washington; Confederated Tribes of the Chehalis Reservation, Washington; Confederated Tribes of the Colville Reservation, Washington; Confederated Tribes of the Umatilla Reservation, Oregon; Cowlitz Indian Tribe, Washington; Hoh Indian Tribe of the Hoh Indian Reservation, Washington; Jamestown S'Klallam Tribe of Washington; Kalispel Indian Community of the Kalispel Reservation, Washington; Lower Elwha Tribal Community of the Lower Elwha Reservation, Washington; Lummi Tribe of the Lummi Reservation, Washington; Makah Indian Tribe of the Makah Indian Reservation, Washington; Muckleshoot Indian Tribe of the Muckleshoot Reservation, Washington; Nisqually Indian Tribe of the Nisqually Reservation, Washington; Nez Perce Tribe, Idaho (previously listed as Nez Perce of Idaho); Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Sauk-Suiattle Indian Tribe of Washington; Shoalwater Bay Tribe of the Shoalwater Bay Indian Reservation, Washington; Skokomish Indian Tribe of the Skokomish Reservation, Washington; Snoqualmie Tribe, Washington; Spokane Tribe of the Spokane Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and the Upper Skagit Indian Tribe of Washington (hereafter referred to as “The Tribes”).

• Multiple lines of evidence, including treaties, Acts of Congress, and Executive Orders, indicate that the land from which the Native American human remains and the associated funerary object were removed is the aboriginal land of The Tribes.

• Other credible lines of evidence, indicate that the land from which the Native American human remains and the associated funerary object were removed is the aboriginal land of The Tribes; the Confederated Tribes of the Warm Springs Reservation of Oregon; and the Wanapum Band of Priest Rapids, a non-Federally recognized Indian group.

• Pursuant to 25 U.S.C. 3001(9), the human remains described in this notice represent the physical remains of 27 individuals of Native American ancestry.

• Pursuant to 25 U.S.C. 3001(3)(A), the one object described above is reasonably believed to have been placed with or near individual human remains at the time of death or later as part of the death rite or ceremony.

• Pursuant to 43 CFR 10.11(c)(1), the disposition of the human remains is to the Confederated Tribes of the Colville Reservation, Washington; Confederated Tribes of the Umatilla Reservation, Oregon; Lummi Tribe of the Lummi Reservation, Washington; Nez Perce Tribe, Idaho (previously listed as Nez Perce of Idaho); Samish Indian Tribe, Washington; Spokane Tribe of the Spokane Reservation, Washington; Stillaguamish Tribe of Washington; Suquamish Indian Tribe of the Port Madison Reservation, Washington; and the Wanapum Band of Priest Rapids, a non-Federally recognized Indian group (which together, comprise the Washington State Inter-Tribal Consortium).

The Washington State Inter-Tribal Consortium tribes have come together to claim the human remains and the associated funerary object jointly. The Coeur D'Alene Tribe of the Coeur D'Alene Reservation, Idaho; Confederated Tribes and Bands of the Yakama Nation, Washington; Confederated Tribes of the Warm Springs Reservation of Oregon; Jamestown S'Klallam Tribe of Washington; Kalispel Indian Community of the Kalispel Reservation, Washington; Lower Elwha Tribal Community of the Lower Elwha Reservation, Washington; Nooksack Indian Tribe of Washington; Skokomish Indian Tribe of the Skokomish Reservation, Washington; and the Squaxin Island Tribe of the Squaxin Island Reservation, Washington, have stated their support for repatriation to the Washington State Inter-Tribal Consortium tribes.

Additional Requestors and Disposition

Representatives of any Indian tribe that believes itself to be culturally affiliated with the human remains or any other Indian tribe that believes it satisfies the criteria in 43 CFR 10.11(c)(1) should contact Peter Lape, Burke Museum, University of Washington, Box 353010, Seattle, WA 98115, telephone (206) 685-3849, before September 4, 2012. Disposition of the human remains to the Washington State Inter-Tribal Consortium tribes may proceed after that date if no additional requestors come forward.

The Burke Museum is responsible for notifying The Tribes; the Confederated Tribes of the Warm Springs Reservation of Oregon; and the Wanapum Band of Priest Rapids, a non-Federally recognized Indian group that this notice has been published.

Dated: July 11, 2012.
David Tarler,
Acting Manager, National NAGPRA Program.

[FR Doc. 2012-18924 Filed 8-1-12; 8:45 am]

BILLING CODE 4312-50-P